DEPARTMENT OF COMMERCE

National Oceanic and Atmospheric Administration

Proposed Information Collection; Comment Request; Atlantic Large Whale Take Reduction Plan Regulations

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 25, 2019.

ADDRESSES: Direct all written comments to Adrienne Thomas, PRA Officer, NOAA, 151 Patton Avenue, Room 159, Asheville, NC 28801 (or via the internet at PRAcomments@doc.gov). Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information should be directed to Colleen Coogan, Marine Mammal Take Reduction Team Coordinator, Greater Atlantic Regional Fisheries Office, 55 Great Republic Drive, Gloucester, MA 01930; 978-281-9181, Colleen.Coogan@noaa.gov.

SUPPLEMENTARY INFORMATION:

I. Abstract

Type of review: regular submission (extension of a current information collection).

Any persons setting trap/pot of gillnet gear to fish commercially in some areas of the Atlantic Ocean are required to paint or otherwise mark their gear with one or two color codes, designating the type of gear and area where the gear is set. The surface buoys of this gear need to be marked to identify the vessel or fishery. These marking requirements apply in the various management areas under the Atlantic Large Whale Take Reduction Plan (ALWTRP), developed under the authority of the Marine Mammal Protection Act.

The goal of this collection of information is to enable the National Marine Fisheries Service (NMFS) to reduce injuries and deaths of large whales, especially right whales, due to incidental entanglement in United States commercial fishing gear. In order to develop fair and effective management measures, the Take Reduction Team (Team) requires comprehensive data on when, where, and how fixed gear vessels fish, and where whales become entangled in fishing gear. Last updated in 2015, the Plan requires buoy lines in fixed gear fisheries to be marked. All buoy lines must be marked with three 12 inch (30.5. 48 cm), colored marks unique to particular fishing areas: one at the top of the buoy line, one midway along the buoy line, and one at the bottom of the buoy line. No additional markings are being proposed at this time. This gear marking, when observed on entangled whales, allows fishery managers to identify the gear type and area the entangling gear may have originated from, to tailor management measures to reduce the risk of mortality and serious injury of marine mammal incidental to commercial fishing operations. Without the information provided by the gear-marking requirements informing where entanglements occur and what type of gear is involved, future management measures may be overly broad and affect more individuals than necessary. Therefore, knowing which geographic areas and fisheries pose the greatest risk to large whales will minimize the economic impact to fishermen while maximizing the benefits for these species.

II. Method of Collection

Information collected is in the form of gear marking.

III. Data

OMB Control Number: 0648-0364.

Form Number(s): None.

Type of Review: Regular submission.

Affected Public: Business or other for-profit organizations, and individuals or households.

Estimated Number of Respondents: Approximately 4,008 vessels.

Estimated Time per Response: Each mark requires approximately 5 minutes of time.

Estimated Total Annual Burden Hours: Estimated 3 burden hours each year, per vessel, for vessels who are re-marking existing gear. This results in a total of 12,024 hours per year total, for all vessels.

Estimated Total Annual Cost to Public: Estimated cost of $2.31 each year, per vessel, for vessels who are re-marking existing gear. This results in a total expense of $9,258.48 per year, for all vessels who are re-marking existing gear.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-20769 Filed 9-24-19; 8:45 am]

BILLING CODE 3510-22-P